DEPARTMENT OF THE INTERIOR

Bureau of Land Management

[LLNML00000 L14300000.ET0000; NMNM126505]

Notice of Proposed Withdrawal and Opportunity for a Public Meeting; New Mexico

AGENCY: Bureau of Land Management, Interior.

ACTION: Notice.

SUMMARY: The Assistant Secretary of the Interior for Policy, Management and Budget proposes to withdraw 5,670.71 acres of public lands to protect special status plant and animal species, cultural resources, and scenic values contained within the areas designated as the Wind Mountain, Cornudas Mountain, and Alamo Mountain Areas of Critical Environmental Concern (ACEC). This notice segregates the lands for up to 2 years from settlement, sale, location, and entry under the general land laws, including the United States mining laws.

DATES: Comments must be received by June 6, 2013.

ADDRESSES: Comments should be sent to the BLM Las Cruces District Office, 1800 Marquess Street, Las Cruces, NM 88005.

FOR FURTHER INFORMATION CONTACT: Edward Seum, Lands and Minerals Supervisor at the address above or by telephone at 575-525-4300. Persons who use a telecommunication device for the deaf (TDD) may call the Federal Information Relay Service (FIRS) at 1-800-877-8339 to contact the above individual. The FIRS is available 24 hours a day, 7 days a week, to leave a message or question with the above individual. You will receive a reply during normal business hours.

SUPPLEMENTARY INFORMATION: The Bureau of Land Management (BLM) filed an application requesting the Assistant Secretary for Policy, Management and Budget to withdraw, subject to valid existing rights, the following described lands from settlement, sale, location, and entry under the general land laws, including the United States mining laws, for a period of 20 years:

New Mexico Principal Meridian

Wind Mountain ACEC

T. 26 S., R. 14 E.,

Sec. 17, E½SE¼

Sec. 20, E½NE¼

Sec. 21;

Sec. 22, W½

Sec. 27, N½NW¼, N½S½NW¼, S½SW¼NW¼, SW¼SE¼NW¼, NW¼NE¼SW¼, N½NW¼SW¼, S½N½SW¼, and S½SW¼

Sec. 28, N½, N½SW¼, SE¼SW¼, and SE¼

Sec. 29, E½NE¼

Sec. 33, lots 3 and 4, and N½NE¼

Sec. 34, lots 1 and 2, and N½NW¼.

The area described contains 2,360.71 acres, more or less, in Otero County.

Cornudas Mountain ACEC

T. 25 S., R. 14 E.,

Sec. 27, SW¼

Sec. 28, S½

Sec. 33, NE¼, NE¼NW¼, NE¼SW¼SE¼, and N½SE¼SE¼

Sec. 34, W½NE¼NW¼, W½NW¼, and NW¼SW¼.

The area described contains 850 acres, more or less, in Otero County.

Alamo Mountain ACEC

T. 26 S., R. 13 E.,

Sec. 17, S½N½ and S½

Sec. 18, SE¼

Sec. 19, NE¼ and E½E½SE¼

Secs. 20 and 21;

Sec. 28, N½N½

Sec. 29, N½N½

Sec. 30, E½NE¼NE¼.

The area described contains 2,460 acres, more or less, in Otero County.

The total areas described aggregate 5,670.71 acres, more or less, in Otero County.

The BLM's petition has been approved by the Assistant Secretary for Policy, Management and Budget. Therefore, the petition constitutes a withdrawal proposal of the Secretary of the Interior (43 CFR 2310.1-3(e)).

The purpose of the withdrawal is to protect special status plant and animal species, cultural resources, and scenic values contained within the areas designated as the Wind Mountain, Cornudas Mountain, and Alamo Mountain ACECs.

The use of a right-of-way, interagency agreement, or cooperative agreement would not adequately constrain non-discretionary uses that could irrevocably destroy the area's cultural resources, scenic values, and special status plant and animal species habitat.

There are no suitable alternative sites for the requested withdrawal.

No water rights would be needed to fulfill the purpose of the requested withdrawal.

Records relating to the application may be examined by contacting Edward Seum or Bill Childress of the BLM Las Cruces District Office at the above address or phone number.

On or before June 6, 2013, all persons who wish to submit comments, suggestions, or objections in connection with the proposed withdrawal may present their views in writing to the BLM Las Cruces District Office at the address noted above. Comments, including names and street addresses of respondents, will be available for public review at the BLM Las Cruces District Office, 1800 Marquess, Las Cruces, New Mexico, during regular business hours, which are 7:45 a.m. to 4:30 p.m., Monday through Friday, except holidays.

Individual respondents may request confidentiality. Before including your address, phone number, email address, or other personal identifying information in your comment, you should be aware that your entire comment—including your personal identifying information—may be made publicly available at any time. While you can ask us in your comment to withhold your personal identifying information from public view, we cannot guarantee that we will be able to do so.

Notice is hereby given that a public meeting will be held in connection with the proposed withdrawal. A notice of the time and place of the public meeting will be announced at least 30 days in advance in the Federal Register and through local media, newspapers, and the BLM Web site at: http://www.blm.gov/nm/st/en/fo/Las_Cruces_District_Office.html.

The application will be processed in accordance with the regulations set forth in 43 CFR part 2300.

For a period until March 9, 2015, the lands described in this notice will be segregated from settlement, sale, location and entry under the general land laws, including the United States mining laws, unless the application is denied or cancelled or the withdrawal is approved prior to that date.

Licenses, permits, cooperative agreement, or discretionary land use authorizations of a temporary nature which will not significantly impact the values to be protected by the withdrawal may be allowed with the approval of the authorized officer of the BLM during the segregative period.

Bill Childress,
District Manager.

[FR Doc. 2013-05485 Filed 3-7-13; 8:45 am]

BILLING CODE 4310-VC-P